ENVIRONMENTAL PROTECTION AGENCY

40 CFR Part 60

Standards of Performance for New Stationary Sources; Monitoring Requirements

CFR Correction

In Title 40 of the Code of Federal Regulations, Part 60 (60.1 to End), revised as of July 1, 2001, on page 53, in § 60.13, paragraph (d)(1) is corrected by revising the last two sentences to read as follows:

§ 60.13 Monitoring requirements.

* * * * *

(d)(1) * * * For a COMS, the optical surfaces, exposed to the effluent gases, must be cleaned before performing the zero and upscale drift adjustments, except for systems using automatic zero adjustments. The optical surfaces must be cleaned when the cumulative automatic zero compensation exceeds 4 percent opacity.

* * * * *

[FR Doc. 02-55516 Filed 6-27-02; 8:45 am]

BILLING CODE 1505-01-D